FEDERAL ELECTION COMMISSION

Sunshine Act Meeting

AGENCY: Federal Election Commission

DATE and TIME: Tuesday, October 16, 2012 at 10:00 a.m.

PLACE: 999 E Street NW., Washington, DC.

STATUS: This Meeting will be Closed to the Public.

Items To Be Discussed

Compliance matters pursuant to 2 U.S.C. 437g

Audits conducted pursuant to 2 U.S.C. 437g, 438(b), and Title 26, U.S.C.

Matters concerning participation in civil actions or proceedings or arbitration

Internal personnel rules and procedures or matters affecting a particular employee

* * * * *

PERSON TO CONTACT FOR INFORMATION: Judith Ingram, Press Officer, Telephone: (202) 694-1220.

Shelley E. Garr,
Deputy Secretary of the Commission.

[FR Doc. 2012-25125 Filed 10-9-12; 4:15 pm]

BILLING CODE 6715-01-P